DEPARTMENT OF AGRICULTURE

Rural Utilities Service

Announcement of Grant Application Deadlines and Funding Levels

AGENCY: Rural Utilities Service, USDA.

ACTION: Notice of Solicitation of Applications (NOSA).

SUMMARY: The Rural Utilities Service (RUS), an agency of the United States Department of Agriculture (USDA), herein referred to as RUS or the Agency, announces its Community Connect Grant Program application window for Fiscal Year (FY) 2017. In addition, this NOSA announces the minimum and maximum Community Connect grant amounts, the funding priority, the application submission dates, the agency contact information, and the procedures for submission of paper and electronic applications.

RUS will publish the amount of funding received in the final appropriations act on its Web site at http://www.rd.usda.gov/newsroom/notices-solicitation-applications-nosas. Applicants can review the Community Connect Grant Program regulation at 7 CFR part 1739 (Subpart A).

DATES: Submit completed paper or electronic grant applications by the following deadlines:

• Paper submissions: Paper submissions must be postmarked and mailed, shipped, or sent overnight no later than March 13, 2017 to be eligible for FY 2017 grant funding. Late or incomplete applications will not be eligible for FY 2017 grant funding.

• Electronic submissions: Electronic submissions must be received no later than March 13, 2017 to be eligible for FY 2017 grant funding. Late or incomplete applications will not be eligible for FY 2017 grant funding.

• If the submission deadline falls on Saturday, Sunday, or a Federal holiday, the application is due the next business day.

ADDRESSES: Copies of the FY 2017 Application Guide and materials for the Community Connect Grant Program may be obtained through:

(1) The Community Connect Web site at http://www.rd.usda.gov/programs-services/community-connect-grants; and

(2) The RUS Office of Loan Origination and Approval at 202-720-0800.

Completed applications may be submitted the following ways:

(1) Paper: Mail paper applications to the Rural Utilities Service, Telecommunications Program, 1400 Independence Ave. SW., Room 2844, STOP 1597, Washington, DC 20250-1597. Mark address with “Attention: Deputy Assistant Administrator, Office of Loan Origination and Approval, Rural Utilities Service.”

(2) Electronic: Submit electronic applications through Grants.gov. Prospective applicants can access information on submitting electronic applications at any time, regardless of registration status, through the Grants.gov Web site at http://www.grants.gov. However, in order to use the electronic submission option, applicants must register with Grants.gov.

FOR FURTHER INFORMATION CONTACT: Shawn Arner, Deputy Assistant Administrator, Office of Loan Origination and Approval, Rural Utilities Service, U.S. Department of Agriculture, telephone: (202) 720-0800.

SUPPLEMENTARY INFORMATION:

Overview

Federal Agency: Rural Utilities Service (RUS).

Funding Opportunity Title: Community Connect Grant Program.

Announcement Type: Initial announcement.

Funding Opportunity Number: RDRUS-CC-2017.

Catalog of Federal Domestic Assistance (CFDA) Number: 10.863.

Dates: Applicants must submit the paper or electronic grant applications by the deadlines found in this section and Section D(5).

A. Program Description

The purpose of the Community Connect Grant Program is to provide financial assistance in the form of grants to eligible applicants that will provide service at the Broadband Grant Speed to all premises in currently unserved, lower-income, and extremely rural areas. RUS will give priority to rural areas that demonstrate the greatest need for broadband services, based on the criteria contained herein.

In addition to providing service to all premises, the program's “community-oriented connectivity” concept will stimulate practical, everyday uses and applications of broadband by cultivating the deployment of new broadband services that improve economic development and provide enhanced educational and health care opportunities in rural areas. Such an approach will also give rural communities the opportunity to benefit from the advanced technologies that are necessary to achieve these goals. The regulation for the Community Connect Program can be found at 7 CFR part 1739.

As in years past, the FY 2017 Community Connect Grant Application Guide has been updated based on program experience. All applicants should carefully review and prepare their applications according to instructions in the FY 2017 Application Guide and sample materials. Expenses incurred in developing applications will be at the applicant's own risk.

B. Federal Award Information

In accordance with 7 CFR 1739.2, the Administrator has established a minimum grant request amount of $100,000 and a maximum grant request amount of $3,000,000 per application for FY 2017.

The standard grant agreement, which specifies the term of each award, is available at http://www.rd.usda.gov/files/UTP_Comm_ConnectGrantAgreement.pdf. The Agency will make awards, and successful applicants will be required to execute documents appropriate to the project before the Agency will advance funding.

While prior Community Connect grants cannot be renewed, existing Community Connect awardees may submit applications for new projects. The Agency will evaluate project proposals from existing awardees as new applications. All grant applications must be submitted during the application window.

C. Eligibility Information

1. Eligible Applicants (See 7 CFR 1739.10)

a. Only entities legally organized as one of the following are eligible for Community Connect Grant Program financial assistance:

i. An incorporated organization.

ii. An Indian tribe or tribal organization, as defined in 25 U.S.C. 450b.

iii. A state or local unit of government.

iv. Other legal entity, including a cooperative, private corporation, or limited liability company organized on a for-profit or not-for-profit basis.

b. Applicants must have the legal capacity and authority to enter into contracts, to comply with applicable federal statutes and regulations, and to own and operate the broadband facilities as proposed in their application.

c. Applicants must have an active registration with current information in the System for Award Management (SAM) at https://www.sam.gov and have a Dun and Bradstreet (D&B) Data Universal Numbering System (DUNS) number. Further information regarding SAM registration and DUNS number acquisition can be found in Sections D(3) and D(4) of this NOSA.

2. Ineligible Applicants

a. The following entities are not eligible for Community Connect Grant Program financial assistance:

i. Individuals and partnerships.

ii. Corporations that have been convicted of a Federal felony within the past 24 months. Any corporation that has been assessed to have any unpaid federal tax liability, for which all judicial and administrative remedies have been exhausted or have lapsed and is not being paid in a timely manner pursuant to an agreement with the authority responsible for collecting the tax liability, is not eligible for financial assistance.

b. In accordance with the Consolidated Appropriations Act, 2016, Sections 743-4, no funds may be available “for a contract, grant, or cooperative agreement with an entity that requires employees or contractors of such entity seeking to report fraud, waste, or abuse to sign internal confidentiality agreements or statements prohibiting or otherwise restricting such employees or contractors from lawfully reporting such waste, fraud, or abuse to a designated investigative or law enforcement representative of a Federal department or agency authorized to receive such information.”

3. Cost Sharing or Matching

The Community Connect Grant Program requires matching contributions for grants. See 7 CFR 1739.14 and the FY 2017 Application Guide for information on required matching contributions.

a. Grant applicants must demonstrate matching contributions in cash of at least fifteen percent (15%) of the requested grant amount. Matching contributions must be used solely for the Project and shall not include any financial assistance from federal sources unless there is a federal statutory exception specifically authorizing the federal financial assistance to be considered as such as discussed in 7 CFR 1739.14.

b. Applications that do not provide sufficient documentation of the required fifteen percent match will be declared ineligible.

4. Funding Restrictions

a. Eligible grant purposes.

Grant funds may be used to finance:

i. The construction, acquisition, or leasing of facilities, including spectrum, land or buildings to deploy service at the Broadband Grant Speed to all participating Critical Community Facilities and all required facilities needed to offer such service to all residential and business customers located within the Proposed Funded Service Area;

ii. The improvement, expansion, construction, or acquisition of a Community Center that furnishes free internet access at the Broadband Grant Speed and provides Computer Access Points. Grant funds provided for such costs shall not exceed the lesser of ten percent (10%) of the grant amount requested or $150,000; and

iii. The cost of bandwidth to provide service free of charge at the Broadband Grant Speed to Critical Community Facilities for the first two (2) years of operation.

b. Ineligible grant purposes.

Grant funds may not be used to finance:

i. The duplication of any existing Broadband Service provided by another entity.

ii. Operating expenses other than the cost of providing bandwidth at the Broadband Grant Speed to the Critical Community Facilities for two (2) years.

iii. Any other operating expenses not specifically permitted in 7 CFR 1739.12.

c. Other. For more information, see 7 CFR 1739.3 for definitions, 7 CFR 1739.12 for eligible grant purposes, and 7 CFR 1739.13 for ineligible grant purposes.

5. Other

Eligible projects must propose to fulfill the following requirements (see 7 CFR 1739.11 for more information):

a. Minimum Broadband Service. RUS uses this measurement to determine whether a proposed funded service area is served or unserved. Until otherwise revised in the Federal Register, the minimum rate-of-data transmission that qualifies as Minimum Broadband Service is four (4) megabits per second downstream and one (1) megabit per second upstream for both fixed and mobile broadband service. RUS will determine that Broadband Service does not exist for areas with no broadband access or whose access is less than 4 Mbps downstream plus 1 Mbps upstream.

b. Minimum Broadband Grant Speed. The minimum bandwidth that an applicant must propose to deliver to every customer in the proposed funded service area. Until otherwise revised in the Federal Register, the minimum rate-of-data transmission that qualifies as Minimum Broadband Grant Speed is ten (10) megabits downstream and one (1) megabit upstream for both fixed and mobile service to the customer.

c. Rural Area. A Rural Area refers to any area, as confirmed by the most recent decennial Census of the United States, which is not located within:

i. A city, town, or incorporated area that has a population of greater than 20,000 inhabitants; or

ii. An urbanized area contiguous and adjacent to a city or town that has a population of greater than 50,000 inhabitants. For purposes of the definition of Rural Area, an urbanized area means a densely populated territory as defined in the most recent decennial Census.

d. Proposed Funded Service Area (PFSA). Applicants must define a contiguous geographic area within an eligible Rural Area, in which Broadband Service does not currently exist, and where the applicant proposes to offer service at the Broadband Grant Speed to all residential and business customers. A PFSA must not overlap with Service Areas of current RUS borrowers and grantees.

e. Critical Community Facilities. Applicants must propose to offer service, free of charge to users, at the Broadband Grant Speed to all Critical Community Facilities located within the Proposed Funded Service Area for at least two (2) years.

f. Community Center. Applicants must propose to provide a Community Center, within the PFSA, with at least two (2) Computer Access Points and wireless access at the Broadband Grant Speed free of charge to users for at least two (2) years.

D. Application and Submission Information

The FY 2017 Application Guide provides specific detailed instructions for each item in a complete application. The Agency emphasizes the importance of including every required item and strongly encourages applicants to follow the instructions carefully, using the examples and illustrations in the FY 2017 Application Guide. Applications submitted by the application deadline, but have critical missing items will be returned as ineligible. The Agency will not solicit or consider scoring or eligibility information that is submitted after the application deadline. However, depending on the specific scoring criteria, applications that do not include all items necessary for scoring may still be eligible applications, but may not receive full or any credit if the information cannot be verified. See the FY 2017 Application Guide for a full discussion of each required item. For a comprehensive list of all information required in a grant application, refer to 7 CFR 1739.15.

1. Address To Request Application Package

The FY 2017 Application Guide, copies of necessary forms and samples, and the Community Connect Grant Program Regulation are available in the following locations:

a. Community Connect Grant Program Web page at http://www.rd.usda.gov/programs-services/community-connect-grants.

b. The Office of Loan Origination and Approval in RUS; call 202-720-0800.

2. Content and Form of Application Submission

a. Carefully review the Community Connect Application Guide and the 7 CFR part 1739, which detail all necessary forms and worksheets. A table summarizing the necessary components of a complete application can be found in Section D(2)(d).

b. Submission of Application Items. Given the high volume of program interest, applicants should submit the required application items in the order indicated in the FY 2017 Application Guide. Applications that are not assembled and tabbed in the specified order impede timely determination of eligibility. For applications with inconsistencies among submitted copies, the Agency will base its evaluation on the original signed application received.

c. Additional Information. The Agency may ask for additional or clarifying information for applications submitted by the deadline which appear to meet the eligibility requirements, but require further review.

d. Table of Required Information in a Complete Grant Application. This table summarizes and categorizes the items required in a grant application.

| Application item | Regulation | Comments
A | Application for Federal Assistance Form |  | Form provided in FY 2017 Application Guide.
| SF-424 Standard Form
| A-2 SAM Registration Information |  | Form provided in FY 2017 Application Guide.
| A-3 State Director Notification |  | Form provided in FY 2017 Application Guide.
| A-4 Equal Opportunity Survey |  | Form provided in FY 2017 Application Guide.
B | Executive Summary of the Project |  | Narrative.
C | Scoring Criteria Documentation |  | Narrative & Documentation.
| Special Considerations |  | Documentation.
D | System Design |  | Narrative & Documentation.
| Network Diagram |  | Documentation.
| Environmental Questionnaire | 7 CFR part 1970 | Narrative & Documentation.
E | Service Area Map |  | Provided in RUS web-based Mapping Tool.
| Service Area Demographics |  | Documentation.
F | Scope of Work |  | Narrative & Documentation.
| Construction Build-out and Project Milestones |  | Form provided in FY 2017 Application Guide.
| Project Budget |  | Form provided in FY 2017 Application Guide.
G | Community-oriented Connectivity Plan |  | Narrative.
H | Financial Information and Sustainability |  | Narrative & Documentation.
I | Statement of Experience |  | Narrative.
J | Evidence of Legal Authority and Existence |  | Documentation.
K | Additional Funding |  | Narrative & Documentation.
L | Compliance with Other Statutes and Regulations
| Equal Opportunity and Nondiscrimination | 7 CFR part 15 (Subpart A) | Form provided in FY 2017 Application Guide.
| Uniform Relocation Assistance and Real Property Acquisition Policies Act of 1970 | 49 CFR Part 24 and 7 CFR Part 21 | Form provided in FY 2017 Application Guide.
| Debarment, Suspension, and Other Responsibility Matters | 7 CFR Part 3017 | Form provided in FY 2017 Application Guide.
| Lobbying for Contracts, Grants, Loans, and Cooperative Agreements | 7 CFR Part 3018 | Form provided in FY 2017 Application Guide.
| Drug-Free Workplace | 7 CFR Part 3017 | Form provided in FY 2017 Application Guide.
| Architectural Barriers |  | Form provided in FY 2017 Application Guide.
| Flood Hazard Area Precautions | 7 CFR 1970 | Form provided in FY 2017 Application Guide.
| Non-Duplication of Services |  | Form provided in FY 2017 Application Guide.
| Federal Collection Policies for Commercial Debt |  | Form provided in FY 2017 Application Guide.
| Assurance Regarding Felony Conviction or Tax Delinquent Status for Corporate Applicants |  | Form provided in FY 2017 Application Guide (corporate applicants-only).

e. Number of copies of submitted applications.

i. Applications submitted on paper. Submit the original application and two (2) copies to RUS.

ii. Applications submitted electronically through Grants.gov. Submit the electronic application once. Carefully read the FY 2017 Application Guide for guidance on submitting an electronic application. Applicants should identify and number each page in the same manner as the paper application.

3. Dun and Bradstreet Universal Numbering System (DUNS) Number

The grant applicant must supply a DUNS number as part of the application. The Standard Form 424 (SF-424) contains a field for the DUNS number. The applicant can obtain the DUNS number free of charge by calling Dun and Bradstreet. Go to http://fedgov.dnb.com/webform for more information on DUNS number acquisition or confirmation.

4. System for Award Management (SAM)

Prior to submitting a paper or an electronic application, the applicant must register in SAM at https://www.sam.gov/portal/public/SAM/. SAM registration must be active with current data at all times, from the application review throughout the active Federal grant funding period. To maintain active SAM registration, the applicant must review and update the information in the SAM database annually from the date of initial registration or from the date of the last update. The applicant must ensure that the information in the database is current, accurate, and complete.

5. Submission Dates and Times

a. Paper applications must be postmarked and mailed, shipped, or sent overnight no later than March 13, 2017 to be eligible for FY 2017 grant funding. Late applications, applications which do not include proof of mailing or shipping, and incomplete applications are not eligible for FY 2017 grant funding. If the submission deadline falls on Saturday, Sunday, or a Federal holiday, the application is due the next business day. In the event of an incomplete application, the Agency will notify the applicant in writing, return the application, and terminate all further action.

i. Address paper applications to the Telecommunications Program, RUS, U.S. Department of Agriculture, 1400 Independence Ave. SW., Room 2844, STOP 1597, Washington, DC 20250-1597. Applications should be marked, “Attention: Deputy Assistant Administrator, Office of Loan Origination and Approval.”

ii. Paper applications must show proof of mailing or shipping by the deadline with one of the following:

A. A legibly dated U.S. Postal Service (USPS) postmark.

B. A legible mail receipt with the date of mailing stamped by the USPS.

C. A dated shipping label, invoice, or receipt from a commercial carrier.

iii. Due to screening procedures at the USDA, packages arriving via regular mail through the USPS are irradiated, which can damage the contents and delay delivery to the office. RUS encourages applicants to consider the impact of this procedure when selecting their application delivery method.

b. Electronic grant applications submitted through Grants.gov must be received no later than March 13, 2017 to be eligible for FY 2017 funding. Late or incomplete applications will not be eligible for FY 2017 grant funding.

i. Applications will not be accepted via fax or electronic mail.

ii. Electronic applications for grants must be submitted through the federal government's Grants.gov initiative at http://www.grants.gov/. Grants.gov contains full instructions on all required passwords, credentialing, and software.

iii. Grants.gov requires some credentialing and online authentication procedures. These procedures may take several business days to complete. Therefore, the applicant should complete the registration, credentialing, and authorization procedures at Grants.gov before submitting an application.

iv. Dun and Bradstreet Data Universal Numbering System (DUNS). The grant applicant must supply a DUNS number as part of the application. See Section D(3) of this NOSA for more information.

v. System for Award Management (SAM). Grants.gov requires that the applicant's organization is registered in SAM. Be sure to obtain the organization's SAM listing well in advance of the application deadline. See Section D(4) of this NOSA for more information.

vi. RUS encourages applicants who wish to apply through Grants.gov to submit their applications in advance of the deadline.

vii. If system errors or technical difficulties occur, use the customer support resources available at the Grants.gov Web site.

E. Application Review Information

1. Criteria

Grant applications are scored competitively and are subject to the criteria listed below. The maximum number of points possible is 115. See 7 CFR 1739.17 and the FY 2017 Application Guide for more information on the scoring criteria.

a. Needs Category. The Agency analyzes the challenges related to the following criteria and the ways in which the project proposes to address these issues (up to 50 points):

i. Economic characteristics.

ii. Educational challenges.

iii. Health care needs.

iv. Public safety issues.

b. Stakeholder Involvement Category. The Agency analyzes the extent of the project planning, development, and support from local residents, institutions, and Critical Community Facilities (up to 40 points).

c. Experience Category. The Agency analyzes the management team's level of experience and past success of broadband systems operation (up to 10 points).

d. Special Consideration Areas Category. In accordance with 7 CFR 1739.1(a), applicants may receive special consideration if they submit documentation demonstrating that they will provide service at the Broadband Grant Speed within the following areas (15 points):

i. Tribal jurisdiction or trust areas.

ii. Promise Zone (for further information, see the Promise Zone Web site at http://www.hud.gov/promisezones/).

iii. Strike Force area (for further information, see the Strikeforce Web site at http://www.usda.gov/wps/portal/usda/usda?navid=STRIKE_FORCE).

e. In making a final selection among and between applications with comparable rankings and geographic distribution, the Administrator may take into consideration the characteristics of the Proposed Funded Service Area (PFSA), as identified in 7 CFR 1739.17(d).

2. Review and Selection Process

Grant applications are ranked according to their final scores. RUS selects applications based on those rankings, subject to the availability of funds and consistent with 7 CFR 1739.17. In addition, it should be noted that an application receiving fewer points can be selected over an application receiving more points in the event that there are insufficient funds available to cover the costs of the higher scoring application, as stated in 7 CFR 1739.16(f).

a. In addition to the scoring criteria that rank applications against each other, the Agency evaluates grant applications on the following items, in accordance with 7 CFR 1739.16:

i. Financial feasibility. A proposal that does not indicate financial feasibility or that is not sustainable will not be approved for an award.

ii. Technical considerations. An application that contains flaws that would prevent the successful implementation, operation, or sustainability of the project will not be approved for an award.

b. Applications conforming with this part will then be evaluated competitively and ranked by a panel of RUS employees that the Administrator of RUS selects, and will be awarded points as described in the scoring criteria in 7 CFR 1739.17. Applications will be ranked and grants awarded in order until all grant funds are expended.

c. The Agency reserves the right to offer the applicant a lower amount than the amount proposed in the application, as stated in 7 CFR 1739.16(g).

F. Federal Award Administration Information

1. Federal Award Notices

a. Successful applications. RUS notifies applicants whose projects are selected for awards by mailing or emailing a copy of the award letter. The receipt of an award letter does not authorize the applicant to commence performance under the award.

b. After sending the award letter, the Agency will send an agreement that contains all the terms and conditions, as referenced in 7 CFR 1739.18 and Section B of this NOSA. A copy of the standard agreement is posted on the RUS Web site at http://www.rd.usda.gov/programs-services/community-connect-grants. RUS recognizes that each funded project is unique, and therefore may attach additional conditions to individual award documents. An applicant must execute and return the grant agreement with any additional items required by the agreement within the number of days specified in the selection notice letter.

2. Administrative and National Policy Requirements

The items listed in this NOSA, the Community Connect Grant Program regulation, the FY 2017 Application Guide, and accompanying materials implement the appropriate administrative and national policy requirements, which include, but are not limited to:

a. Executing a Community Connect Grant Agreement.

b. Using Form SF 270, “Request for Advance or Reimbursement,” to request reimbursements (along with the submission of receipts for expenditures, timesheets, and any other documentation to support the request for reimbursement).

c. Providing annual project performance activity reports until the expiration of the award.

d. Ensuring that records are maintained to document all activities and expenditures utilizing Community Connect grant funds and matching funds (receipts for expenditures are to be included in this documentation).

e. Providing a final project performance report.

f. Complying with policies, guidance, and requirements as described in the following applicable Code of Federal Regulations, and any successor regulations:

i. 2 CFR parts 200 and 400 (Uniform Administrative Requirements, Cost Principles, and Audit Requirements for Federal Awards).

ii. 2 CFR part 417 (Nonprocurement Debarment and Suspension).

iii. 2 CFR part 180 (Government-wide Debarment and Suspension).

g. Signing Form AD-3031 (“Assurance Regarding Felony Conviction or Tax Delinquent Status for Corporate Applicants”) (for corporate applicants only).

h. Complying with Executive Order 13166, “Improving Access to Services for Persons with Limited English Proficiency.” For information on limited English proficiency and agency-specific guidance, go to http://www.LEP.gov.

3. Reporting

a. Performance reporting. All recipients of Community Connect Grant Program financial assistance must provide annual performance activity reports to RUS until the project is complete and the funds are expended. A final performance report is also required. This report may serve as the last annual report. The final report must include an evaluation of the success of the project in meeting the Community Connect Grant Program objectives. See 7 CFR 1739.19 and 2 CFR 200.328 for additional information on these reporting requirements.

b. Financial reporting. All recipients of Community Connect Grant Program financial assistance must provide an annual audit, beginning with the first year in which a portion of the financial assistance is expended. Audits are governed by USDA audit regulations. See 7 CFR 1739.20 and 2 CFR part 200 (Subpart F) for a description of the financial reporting requirements.

c. Recipient and Sub-recipient Reporting. The applicant must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR 170 are as follows:

i. First Tier Sub-Awards of $25,000 or more (unless they are exempt under 2 CFR part 170) must be reported by the Recipient to https://www.fsrs.gov no later than the end of the month following the month the obligation was made. Please note that currently underway is a consolidation of eight federal procurement systems, including the Federal Sub-award Reporting System (FSRS), into one system, the System for Award Management (SAM). As a result, the FSRS will soon be consolidated into and accessed through https://www.sam.gov/portal/public/SAM/.

ii. The Total Compensation of the Recipient's Executives (the five most highly compensated executives) must be reported by the Recipient (if the Recipient meets the criteria under 2 CFR part 170) to https://www.sam.gov/portal/public/SAM/ by the end of the month following the month in which the award was made.

iii. The Total Compensation of the Sub-recipient's Executives (the five most highly compensated executives) must be reported by the Sub-recipient (if the Sub-recipient meets the criteria under 2 CFR part 170) to the Recipient by the end of the month following the month in which the sub-award was made.

d. Record Keeping and Accounting. The contract will contain provisions related to record keeping and accounting requirements.

G. Federal Awarding Agency Contacts

1. Web site: http://www.rd.usda.gov/programs-services/community-connect-grants. This site maintains up-to-date resources and contact information for the Community Connect Grant Program;

2. Telephone: 202-720-0800;

3. Email: community.connect@wdc.usda.gov; and

4. Main Point of Contact: Shawn Arner, Deputy Assistant Administrator, Office of Loan Origination and Approval, Rural Utilities Service, U.S. Department of Agriculture.

H. Other Information

1. USDA Non-Discrimination Statement

USDA prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by USDA. (Not all prohibited bases will apply to all programs and/or employment activities.)

2. How To File a Complaint

a. Equal Employment Opportunity Complaint. Individuals who wish to file an employment complaint must contact their Agency's EEO Counselor within 45 days of the date of the alleged discriminatory act, event, or in the case of a personnel action. Additional information can be found online at http://www.ascr.usda.gov/complaint_filing_file.html.

b. Program Discrimination Complaint. Individuals who wish to file a Program Discrimination Complaint must complete the USDA Program Discrimination Complaint Form (PDF), found online at http://www.ascr.usda.gov/complaint_filing_cust.html or at any USDA office, or call (866) 632-9992 to request the form. A letter may also be written containing all of the information requested in the form. Send the completed complaint form or letter by mail to the U.S. Department of Agriculture, Director, Office of Adjudication, 1400 Independence Avenue SW., Washington, DC 20250-9410, or email at program.intake@usda.gov.

3. Persons With Disabilities

Individuals who are deaf, hard of hearing, or have speech disabilities and wish to file either an EEO or program complaint may contact USDA through the Federal Relay Service at (800) 877-8339 (English) or (800) 845-6136 (Spanish).

Persons with disabilities who wish to file a program complaint, please see information above on how to contact USDA by mail or email. Individuals who require alternative means of communication for program information (e.g., Braille, large print, audiotape, etc.) may contact USDA's TARGET Center at 202-720-2600 (voice and TDD).

Dated: December 6, 2016.
Brandon McBride,
Administrator, Rural Utilities Service.

[FR Doc. 2017-00194 Filed 1-9-17; 8:45 am]

BILLING CODE P